FEDERAL TRADE COMMISSION

Agency Information Collection Activities; Submission for OMB Review; Comment Request

AGENCY: Federal Trade Commission (“FTC” or “Commission”).

ACTION: Notice.

SUMMARY: The information collection requirements described below will be submitted to the Office of Management and Budget (“OMB”) for review, as required by the Paperwork Reduction Act (“PRA”). The FTC is seeking public comments on its proposal to extend through March 31, 2012, the current PRA clearances for information collection requirements contained in four consumer financial regulations promulgated by the Federal Reserve Board and enforced by the Commission. Those clearances expire on March 31, 2009.

DATES: Comments must be received on or before April 10, 2009.

ADDRESSES: Interested parties are invited to submit written comments electronically or in paper form. Comments should refer to “Regs BEMZ, PRA Comment, FTC File No. P084812” to facilitate the organization of comments. Please note that comments will be placed on the public record of this proceeding—including on the publicly accessible FTC website, at (http://www/ftc.gov/os/publiccomments.shtm) — and therefore should not include any sensitive or confidential information. In particular, comments should not include any sensitive personal information, such as an individual’s Social Security Number; date of birth; driver’s license number or other state identification number, or foreign country equivalent; passport number; financial account number; or credit or debit card number. Comments also should not include any sensitive health information, such as medical records or other individually identifiable health information. In addition, comments should not include any “[t]rade secrets and commercial or financial information obtained from a person and privileged or confidential . . . ,” as provided in Section 6(f) of the FTC Act, 15 U.S.C. 46(f), and FTC Rule 4.10(a)(2), 16 CFR 4.10(a)(2). Comments containing material for which confidential treatment is requested must be filed in paper form, must be clearly labeled “Confidential,” and must comply with FTC Rule 4.9(c).¹

¹ FTC Rule 4.2(d), 16 CFR 4.2(d). The comment must be accompanied by an explicit request for confidential treatment, including the factual and legal basis for the request, and must identify the specific portions of the comment to be withheld from the public record. The request will be granted or denied by the Commission's General Counsel, consistent with applicable law and the public interest. See FTC Rule 4.9(c), 16 CFR 4.9(c).

Because paper mail addressed to the FTC is subject to delay to heightened security screening, please consider submitting your comments in electronic form. Comments filed in electronic form should be submitted by using the following weblink: (https://secure.commentworks.com/ftc-RegsBEMZ) (and following the instructions on the web-based form). To ensure that the Commission considers an electronic comment, you must file it on the web-based form at the weblink (https://secure.commentworks.com/ftc-RegsBEMZ). If this Notice appears at (http://www.regulations.gov/search/index.jsp), you may also file an electronic comment through that website. The Commission will consider all comments that regulations.gov forwards to it.

A comment filed in paper form should include the “Regs BEMZ, PRA Comment, FTC File No. P084812“ reference both in the text and on the envelope, and should be mailed or delivered to the following address: Federal Trade Commission, Office of the Secretary, Room H-135 (Annex J), 600 Pennsylvania Avenue NW, Washington, DC 20580. The FTC is requesting that any comment filed in paper form be sent by courier or overnight service, if possible, because U.S. postal mail in the Washington area and at the Commission is subject to delay due to heightened security precautions.

All comments should additionally be submitted to: Office of Information and Regulatory Affairs of OMB, Attention: Desk Officer for the Federal Trade Commission. Comments should be submitted via facsimile to (202) 395-5167, because U.S. Postal Mail is subject to lengthy delays due to heightened security precautions.

The FTC Act and other laws the Commission administers permit the collection of public comments to consider and use in this proceeding as appropriate. The Commission will consider all timely and responsive public comments that it receives, whether filed in paper or electronic form. Comments received will be available to the public on the FTC website, to the extent practicable, at (http://www.ftc.gov/os/publiccomments.shtm). As a matter of discretion, the Commission makes every effort to remove home contact information for individuals from the public comments it receives before placing those comments on the FTC website. More information, including routine uses permitted by the Privacy Act, may be found in the FTC’s privacy policy, at (http://www.ftc.gov/ftc/privacy.shtm).

FOR FURTHER INFORMATION CONTACT: Requests for additional information or copies of the proposed information requirements should be addressed to Carole Reynolds or James Chen, Attorneys, Division of Financial Practices, Bureau of Consumer Protection, Federal Trade Commission, 600 Pennsylvania Ave., N.W., Washington, D.C. 20580, (202) 326-3230 or (202) 326-2659.

SUPPLEMENTARY INFORMATION: The four regulations covered by this notice are:

(1) Regulations promulgated under The Equal Credit Opportunity Act, 15 U.S.C. 1691 et seq. (“ECOA”) (“Regulation B”) (OMB Control Number: 3084-0087);

(2) Regulations promulgated under The Electronic Fund Transfer Act, 15 U.S.C. 1693 et seq. (“EFTA”) (“Regulation E”) (OMB Control Number: 3084-0085);

(3) Regulations promulgated under The Consumer Leasing Act, 15 U.S.C. 1667 et seq. (“CLA”) (“Regulation M”) (OMB Control Number: 3084-0086); and

(4) Regulations promulgated under The Truth-In-Lending Act, 15 U.S.C. 1601 et seq. (“TILA”) (“Regulation Z”) (OMB Control Number: 3084-0088).

Each of these four rules impose certain recordkeeping and disclosure requirements associated with providing credit or with other financial transactions. As detailed below, the FTC staff has calculated the PRA burden for each rule based on the compliance costs of entities over which the FTC has jurisdiction. All of these rules require covered entities to keep certain records. FTC staff believes that these entities likely would retain these records in the normal course of business even absent the recordkeeping requirements in the rules.² Covered entities, however, may incur some burden associated with ensuring that they do not prematurely dispose of relevant records (i.e., during the period of time when they are required to retain records by the applicable rule).

² PRA “burden” does not include effort expended in the ordinary course of business, regardless of any regulatory requirement. 5 CFR 1320.3(b)(2).

Disclosure requirements involve both set-up and monitoring costs as well as certain transaction-specific costs. “Set-up” burden, incurred by new entrants only, includes identifying the applicable disclosure requirements, determining compliance obligations, and designing and developing compliance systems and procedures. “Monitoring” burden, incurred by all covered entities, includes reviewing changes to regulatory requirements, making necessary revisions to compliance systems and procedures, and monitoring the ongoing operation of systems and procedures to ensure continued compliance. “Transaction-related” burden refers to the effort associated with providing the various required disclosures in individual transactions. While this burden varies with the number of transactions, the figures shown for transaction-related burden in the tables that follow are estimated averages.

The actual range of compliance burden experienced by covered entities, and reflected in those averages, varies widely. Depending on the extent to which covered entities have developed computer-based systems and procedures for providing the required disclosures (and/or the extent to which entities utilize electronic transactions, communications, and/or electronic recordkeeping), and the efficacy of those systems and procedures, some entities may have little burden, while others may have a higher burden.³

³ For example, large companies may use computer-based and/or electronic means to provide required disclosures, including issuing some disclosures en masse, e.g., notices of changes in terms. Smaller companies may have less automated compliance systems but may nonetheless rely on electronic mechanisms for disclosures and recordkeeping. Regardless of size, some entities may utilize compliance systems that are fully integrated into their general business operational system; as such, they may have minimal additional burden. Other entities may have incorporated fewer of these approaches into their systems and may have a higher burden.

Calculating the burden associated with the four regulations’ disclosure requirements is very difficult because of the highly diverse group of affected entities. The “respondents” included in the following burden calculations consist of credit and lease advertisers, creditors, financial institutions, service providers, certain government agencies and others involved in delivering electronic fund transfers (“EFTs”) of government benefits, and lessors.⁴ The burden estimates represent FTC staff’s best assessment, based on its knowledge and expertise relating to the financial services industry. To derive these estimates, FTC staff considered the wide variations in covered entities': (1) size and location; (2) credit or lease products offered, extended, or advertised, and their particular terms; (3) types of EFTs used; (4) types and occurrences of adverse actions; (5) types of appraisal reports utilized; and (6) computer systems and electronic features of compliance operations.

⁴ The Commission generally does not have jurisdiction over banks, thrifts, and federal credit unions under the applicable regulations.

Because some covered entities make required disclosures in the ordinary course of business, these disclosures do not impose PRA burden on them. In addition, as noted above, some entities use computer-based and/or electronic means of providing the required disclosures, while others rely on methods requiring more manual effort.

The cost estimates detailed below relate solely to labor costs, including the time necessary to train employees how to comply with the regulations. The applicable PRA requirements impose minimal capital or other non-labor costs, as affected entities generally have the necessary equipment for other business purposes. Similarly, FTC staff estimates that compliance with these rules entails minimal printing and copying costs beyond that associated with documenting financial transactions in the ordinary course of business.

1. Regulation B

The ECOA prohibits discrimination in the extension of credit. The Board of Governors of the Federal Reserve System (“FRB”) promulgated Regulation B, 12 CFR 202, to implement the ECOA. Regulation B establishes disclosure requirements to assist customers in understanding their rights under the ECOA and recordkeeping requirements to assist in detecting unlawful discrimination and other violations. The FTC enforces the ECOA as to all creditors except those (such as federally chartered or insured depository institutions) that are subject to the regulatory authority of another federal agency.

Estimated annual hours burden: 3,129,437 hours, rounded to the nearest thousand (1,153,500 recordkeeping hours + 1,975,937 disclosure hours)

Recordkeeping: FTC staff estimates that Regulation B’s general recordkeeping requirements affect 1,000,000 credit firms within the Commission’s jurisdiction, at an average annual burden of one hour per firm, for a total of 1,000,000 hours. Staff also estimates that the requirement that mortgage creditors monitor information about race/national origin, sex, age, and marital status imposes a maximum burden of one minute each⁵ for approximately 9 million credit applications,⁶ for a total of 150,000 hours. Staff also estimates that keeping records of self-testing pursuant to the regulation would affect 2,500 firms, with an average annual burden of one hour per firm, for a total of 2,500 hours, and that recordkeeping of any corrective action for self-testing would affect 250 firms in a given year, with an average annual burden of four hours per firm, for a total of 1,000 hours. The total estimated recordkeeping burden is 1,153,500 hours.

⁵ Regulation B contains model forms that creditors may use to gather and retain the required information.

⁶ The decrease in credit applications relative to prior FTC estimates is based on industry data regarding the approximate number of mortgage purchase and refinance originations.

Disclosure: Regulation B requires that creditors (i.e., entities that regularly participate in a credit decision, including setting the terms of the credit) provide notice whenever they take adverse action. It requires entities that extend various types of mortgage credit to provide a copy of the appraisal report to applicants or to notify them of their right to a copy of the report (and thereafter provide a copy of the report, upon the applicant’s request). It also requires that, for accounts that spouses may use or for which they are contractually liable, creditors who report credit history must do so in a manner reflecting both spouses’ participation. Further, it requires creditors that collect applicant characteristics for purposes of conducting a self-test to disclose to those applicants that providing the information is optional, that the creditor will not take the information into account in any aspect of the credit transaction, and, if applicable, that the information will be noted by visual observation or surname if the applicant chooses not to provide it.⁷

⁷ The disclosure may be provided orally or in writing. Regulation B provides a model form to assist creditors in providing the written disclosure.

Regulation B applies to retailers, mortgage lenders, mortgage brokers, finance companies, utilities (for some requirements), and others. Below is FTC staff’s best estimate of burden applicable to the wide spectrum of these entities within the FTC’s jurisdiction.

Regulation B: Disclosures—Burden Hours
Disclosures | Setup/Monitoring¹: Respondents | Setup/Monitoring¹: Average Burden per Respondent (hours) | Setup/Monitoring¹: Total Setup/ Monitoring Burden (hours) | Transaction-related²: Number of Transactions | Transaction-related²: Average Burden per Transaction (minutes) | Transaction-related²: Total Transaction Burden (hours) | Total Burden (hours)
Credit history reporting | 250,000 | .25 | 62,500 | 125,000,000 | .25 | 520,833 | 583,333
Adverse action notices | 1,000,000 | .5 | 500,000 | 200,000,000 | .25 | 833,333 | 1,333,333
Appraisal notices | 20,000 | .5 | 10,000 | 4,500,000 | .25 | 18,750 | 28,750
Appraisal reports | 20,000 | .5 | 10,000 | 4,500,000 | .25 | 18,750 | 28,750
Self-test disclosures | 2,500 | .5 | 1,250 | 125,000 | .25 | 521 | 1,771
Total |  |  |  |  |  |  | 1,975,937
¹ With respect to appraisal notices and appraisal reports, the above figures reflect a decrease in applicable mortgage entities. The figures assume that approximately half of those entities (.5 x 40,000, or 20,000 businesses) would not otherwise provide this information and thus would be affected. The figures also assume that all applicable entities would provide notices first and thereafter provide the reports upon request.
² The above figures reflect a decrease in mortgage transactions compared to prior FTC estimates. They assume that half of applicable mortgage transactions (.5 x 9,000,000, or 4,500,000) would not otherwise provide the appraisal notices and reports and thus would be affected.

Estimated annual cost burden: $83,456,633 rounded to the nearest thousand ($22,005,000 recordkeeping cost + $61,451,633 disclosure cost)

FTC staff calculated labor costs by applying appropriate hourly cost figures to the burden hours described above. The hourly rates used below ($41 for managerial or professional time, $30 for skilled technical time, and $16 for clerical time) are averages, based on the most currently available Bureau of Labor Statistics cost figures posted online.⁸

⁸ http://www.bls.gov/ncs/ncswage2007.htm (National Compensation Survey: Occupational Earnings in the United States 2007, US Department of Labor released August 2008, Bulletin 2704, Table 3 (“Full-time civilian workers,” mean and median hourly wages).

Recordkeeping: FTC staff estimates that the general recordkeeping responsibility of one hour per creditor would involve approximately 90 percent clerical time and 10 percent skilled technical time. Keeping records of race/national origin, sex, age, and marital status requires an estimated one minute of skilled technical time. Keeping records of the self-test responsibility and of any corrective actions requires an estimated one hour and four hours, respectively, of skilled technical time. As shown in the table below, the total recordkeeping cost is $22,005,000.

Disclosure: For each notice or information item listed, FTC staff estimates that the burden hours consist of 10 percent managerial time and 90 percent skilled technical time. As shown below, the total disclosure cost is $61,451,633.

Regulation B: Recordkeeping and Disclosures—Cost
Required Task | Managerial: Time (hours) | Managerial: Cost ($41/hr.) | Skilled Technical: Time (hours) | Skilled Technical: Cost ($30/hr.) | Clerical: Time (hours) | Clerical: Cost ($16/hr.) | Total Cost ($)
General recordkeeping | 0 | $0 | 100,000 | $3,000,000 | 900,000 | $14,400,000 | $17,400,000
Other recordkeeping | 0 | $0 | 150,000 | $4,500,000 | 0 | $0 | $4,500,000
Recordkeeping of test | 0 | $0 | 2,500 | $75,000 | 0 | $0 | $75,000
Recordkeeping of corrective action | 0 | $0 | 1,000 | $30,000 | 0 | $0 | $30,000
Total Recordkeeping |  |  |  |  |  |  | $22,005,000
Credit history reporting | 58,333 | $2,391,653 | 525,000 | $15,750,000 | 0 | $0 | $18,141,653
Adverse action notices | 133,333 | $5,466,653 | 1,200,000 | $36,000,000 | 0 | $0 | $41,466,653
Appraisal notices | 2,875 | $117,875 | 25,875 | $776,250 | 0 | $0 | $894,125
Appraisal reports | 2,875 | $117,875 | 25,875 | $776,250 | 0 | $0 | $894,125
Self-test disclosure | 177 | $7,257 | 1,594 | $47,820 | 0 | $0 | $55,077
Total Disclosures |  |  |  |  |  |  | $61,451,633
Total Recordkeeping and Disclosures |  |  |  |  |  |  | $83,456,633

2. Regulation E

The EFTA requires accurate disclosure of the costs, terms, and rights relating to EFT services provided to consumers. The FRB promulgated Regulation E, 12 CFR 205, to implement the EFTA. Regulation E establishes disclosure requirements to assist consumers and establishes recordkeeping requirements to assist in enforcing the EFTA. The FTC enforces the EFTA as to all entities providing EFT services, except those (such as federally chartered or insured depository institutions) that are subject to the regulatory authority of another federal agency.

Estimated annual hours burden: 3,731,342 hours (600,000 recordkeeping hours + approximately 3,131,342 disclosure hours)

Recordkeeping: FTC staff estimates that Regulation E’s recordkeeping requirements affect 600,000 firms within the Commission’s jurisdiction that offer EFT services to consumers, at an average annual burden of one hour per firm, for a total of 600,000 hours.

Disclosure: Regulation E applies to financial institutions (including certain retailers and various payees engaged in electronic commerce), service providers, various federal and state agencies offering EFTs, and others. Below is FTC staff’s best estimate of burden applicable to this very broad spectrum of covered entities.

Regulation E: Disclosures—Burden Hours
Disclosures¹ | Setup/Monitoring: Respondents | Setup/Monitoring: Average Burden per Respondent (hours) | Setup/Monitoring: Total Setup/ Monitoring Burden (hours) | Transaction-related: Number of Transactions | Transaction-related: Average Burden per Transaction (minutes) | Transaction-related: Total Transaction Burden (hours) | Total Burden (hours)
Initial terms | 100,000 | .5 | 50,000 | 1,000,000 | .02 | 333 | 50,333
Change in terms | 25,000 | .5 | 12,500 | 33,000,000 | .02 | 11,000 | 23,500
Periodic statements | 100,000 | .5 | 50,000 | 1,200,000,000 | .02 | 400,000 | 450,000
Error resolution | 100,000 | .5 | 50,000 | 1,000,000 | 5 | 83,333 | 133,333
Transaction receipts² | 100,000 | .5 | 50,000 | 5,000,000,000 | .02 | 1,666,667 | 1,716,667
Preauthorized transfers | 500,000 | .5 | 250,000 | 1,000,000 | .25 | 4,167 | 254,167
Service provider notices | 100,000 | .25 | 25,000 | 1,000,000 | .25 | 4,167 | 29,167
Govt. benefit notices | 10,000 | .5 | 5,000 | 100,000,000 | .25 | 416,667 | 421,667
ATM³ | 500 | .25 | 125 | 250,000 | .25 | 1,041 | 1,166
Electronic check conversion⁴ | 100,000 | .5 | 50,000 | 3,500,000 | .02 | 1,167 | 51,167
Payroll cards⁵ | 100 | .5 | 50 | 2,500 | 3 | 125 | 175
Total |  |  |  |  |  |  | 3,131,342
¹ This reflects an increase in entities offering EFT services to consumers.
² Regulation E now exempts EFTs of $15 or less from receipt requirements, which could decrease the burden of providing transaction receipts. However, use of the exemption could involve reprogramming costs. Due to the relatively recent change, the burden associated with transaction receipts has not been changed.
³ Regulation E now permits ATM operators that do not charge fees for services in all circumstances to disclose on signs that a fee “may” (rather than “will”) be charged. However, making this change would require replacing existing signage, which could increase disclosure burden. Due to the relatively recent change and its voluntary nature, the burden associated with ATM notice has not been revised.
⁴ Regulation E now includes requirements for electronic check conversion.
⁵ Regulation E now includes requirements for payroll cards.

Estimated annual cost burden: $107,825,124, rounded to the nearest thousand ($10,440,000 recordkeeping cost + $97,385,124 disclosure cost)

FTC staff calculated labor costs by applying appropriate hourly cost figures to the burden hours described above. The hourly rates used below ($41 for managerial or professional time, $30 for skilled technical time, and $16 for clerical time) are averages, based on current Bureau of Labor Statistics cost figures.⁹

⁹ See note 8.

Recordkeeping: For the 600,000 recordkeeping hours, FTC staff estimates that 10 percent of the burden hours require skilled technical time and 90 percent require clerical time. As shown below, the total recordkeeping cost is $10,440,000.

Disclosure: For each notice or information item listed, FTC staff estimates that 10 percent of the burden hours require managerial time and 90 percent require skilled technical time. As shown below, the total disclosure cost is $97,385,124.

Regulation E: Recordkeeping and Disclosures—Cost
Required Task | Managerial: Time (hours) | Managerial: Cost ($41/hr.) | Skilled Technical: Time (hours) | Skilled Technical: Cost ($30/hr.) | Clerical: Time (hours) | Clerical: Cost ($16/hr.) | Total Cost ($)
Recordkeeping | 0 | $0 | 60,000 | $1,800,000 | 540,000 | $8,640,000 | $10,440,000
Disclosures: |  |  |  |  |  |  |
Initial terms | 5,033 | $206,353 | 45,300 | $1,359,000 | 0 | $0 | $1,565,353
Change in terms | 2,350 | $96,350 | 21,150 | $634,500 | 0 | $0 | $730,850
Periodic statements | 45,000 | $1,845,000 | 405,000 | $12,150,000 | 0 | $0 | $13,995,000
Error resolution | 13,333 | $546,653 | 120,000 | $3,600,000 | 0 | $0 | $4,146,653
Transaction receipts | 171,667 | $7,038,347 | 1,545,000 | $46,350,000 | 0 | $0 | $53,388,347
Preauthorized transfers | 25,417 | $1,042,097 | 228,750 | $6,826,500 | 0 | $0 | $7,904,597
Service provider notices | 2,917 | $119,597 | 26,250 | $787,500 | 0 | $0 | $907,097
Govt. benefit notices | 42,167 | $1,728,874 | 379,500 | $11,385,000 | 0 | $0 | $13,113,874
ATM notices | 116 | $4,756 | 1,050 | $31,500 | 0 | $0 | $36,256
Electronic check conversion | 5,117 | $209,797 | 46,050 | $1,381,500 | 0 | $0 | $1,591,297
Payroll cards | 50 | $2,050 | 125 | $3,750 | 0 | $0 | $5,800
Total Disclosures |  |  |  |  |  |  | $97,385,124
Total Recordkeeping and Disclosures |  |  |  |  |  |  | $107,825,124

3. Regulation M

The CLA requires accurate disclosure of the costs and terms of leases to consumers. The FRB promulgated Regulation M, 12 CFR 213, to implement the CLA. Regulation M establishes disclosure requirements that assist consumers in comparison shopping and in understanding the terms of leases and recordkeeping requirements that assist enforcement of the CLA. The FTC enforces the CLA as to all lessors and advertisers except those that are subject to the regulatory authority of another federal agency (such as federally chartered or insured depository institutions).

Estimated annual hours burden: 225,000 hours, rounded to the nearest thousand (120,000 recordkeeping hours + 104,875 disclosure hours)

Recordkeeping: FTC staff estimates that Regulation M’s recordkeeping requirements affect approximately 120,000 firms within the Commission’s jurisdiction that lease products to consumers, at an average annual burden of one hour per firm, for a total of 120,000 hours.

Disclosure: Regulation M applies to automobile lessors (such as auto dealers, independent leasing companies, and manufacturers’ captive finance companies), computer lessors (such as computer dealers and other retailers), furniture lessors, various electronic commerce lessors, diverse types of lease advertisers, and others. Below is FTC staff’s best estimate of burden applicable to the wide spectrum of these entities within the FTC’s jurisdiction.

Regulation M: Disclosures—Burden Hours
Disclosures | Setup/Monitoring: Respondents | Setup/Monitoring: Average Burden per Respondent (hours) | Setup/Monitoring: Total Setup/ Monitoring Burden (hours) | Transaction-related: Number of Transactions | Transaction-related: Average Burden per Transaction (minutes) | Transaction-related: Total Transaction Burden (hours) | Total Burden (hours)
Auto Leases¹ | 45,000 | .75 | 33,750 | 2,000,000 | .50 | 16,667 | 50,417
Other Leases² | 75,000 | .50 | 37,500 | 750,000 | .25 | 3,125 | 40,625
Advertising | 20,000 | .50 | 10,500 | 800,000 | .25 | 3,333 | 13,833
Total |  |  |  |  |  |  | 104,875
¹ This category focuses on consumer vehicle leases. Vehicle leases are subject to more lease disclosure requirements (pertaining to computation of payment obligations) than other lease transactions. (Only consumer leases for more than four months are covered.) See 15 U.S.C. 1667(1); 12 CFR 213.2(e)(1). This reflects a decrease in auto leasing entities and transactions, relative to prior FTC estimates.
² This category focuses on all types of consumer leases other than vehicle leases. It includes leases for computers, other electronics, small appliances, furniture, and other transactions. (Only consumers leases for more than four months are covered.) See 15 U.S.C. 1667(1); 12 CFR 213.2(e)(1). This reflects a decrease in consumer leasing entities and transactions, relative to prior FTC estimates.

Estimated annual cost burden: $5,349,618, rounded to the nearest thousand ($2,088,000 recordkeeping cost + $3,261,618 disclosure cost)

FTC staff calculated labor costs by applying appropriate hourly cost figures to the burden hours described above. The hourly rates used below ($41 for managerial or professional time, $30 for skilled technical time, and $16 for clerical time) are averages, based on current Bureau of Labor Statistics cost figures.¹⁰

¹⁰ See note 8.

Recordkeeping: For the 120,000 recordkeeping hours, FTC staff estimates that 10 percent of the burden hours require skilled technical time and 90 percent require clerical time. As shown in the table below, the total recordkeeping cost is $2,088,000.

Disclosure: For each notice or information item listed, FTC staff estimates that 10 percent of the burden hours require managerial time and 90 percent require skilled technical time. As shown in the table below, the total disclosure cost is $3,261,618.

Regulation M: Recordkeeping and Disclosures—Cost
Required Task | Managerial: Time (hours) | Managerial: Cost ($41/hr.) | Skilled Technical: Time (hours) | Skilled Technical: Cost ($30/hr.) | Clerical: Time (hours) | Clerical: Cost ($16/hr.) | Total Cost ($)
Recordkeeping | 0 | $0 | 12,000 | $360,000 | 108,000 | $1,728,000 | $2,088,000
Disclosures |  |  |  |  |  |  |
Auto Leases | 5,042 | $206,722 | 45,375 | $1,361,250 | 0 | $0 | $1,567,972
Other Leases | 4,063 | $166,583 | 36,562 | $1,096,860 | 0 | $0 | $1,263,443
Advertising | 1,383 | $56,703 | 12,450 | $373,500 | 0 | $0 | $430,203
Total Disclosures |  |  |  |  |  |  | $3,261,618
Total Recordkeeping and Disclosures |  |  |  |  |  |  | $5,349,618

4. Regulation Z

The TILA was enacted to foster comparison credit shopping and informed credit decision making by requiring creditors and others to provide accurate disclosure of the costs and terms of credit to consumers. The FRB promulgated Regulation Z, 12 CFR 226, to implement the TILA. Regulation Z establishes disclosure requirements to assist consumers and recordkeeping requirements to assist enforcement of the TILA. The FTC enforces the TILA as to all creditors and advertisers except those that are subject to the regulatory authority of another federal agency (such as federally chartered or insured depository institutions).

Estimated annual hours burden: 12,415,413 hours, rounded to the nearest thousand (1,000,000 recordkeeping hours + 11,415,413 disclosure hours)

Recordkeeping: FTC staff estimates that Regulation Z’s recordkeeping requirements affect approximately 1,000,000 firms within the Commission’s jurisdiction that offer credit, at an average annual burden of one hour per firm, for a total of 1,000,000 hours.

Disclosure: Regulation Z disclosure requirements pertain to open-end and closed-end credit. The Regulation applies to various types of entities, including mortgage companies; finance companies; auto dealerships; student loan companies; merchants who extend credit for goods or services, credit advertisers; and others. Below is FTC staff’s best estimate of burden applicable to the wide spectrum of these entities within the FTC’s jurisdiction.

Regulation Z: Disclosures—Burden Hours
Disclosures¹ | Setup/Monitoring: Respondents | Setup/Monitoring: Average Burden per Respondent (hours) | Setup/Monitoring: Total Setup/ Monitoring Burden (hours) | Transaction-related: Number of Transactions | Transaction-related: Average Burden per Transaction (minutes) | Transaction-related: Total Transaction Burden (hours) | Total Burden (hours)
Open-end credit: |  |  |  |  |  |  |
Initial terms | 90,000 | .5 | 45,000 | 40,000,000 | .25 | 166,666 | 211,666
Rescission notices | 7,500 | .5 | 3,750 | 400,000 | .25 | 1,666 | 5,416
Change in terms | 20,000 | .5 | 10,000 | 125,000,000 | .125 | 260,416 | 270,416
Periodic statements | 90,000 | .5 | 45,000 | 3,500,000,000 | .0625 | 3,645,833 | 3,690,833
Error resolution | 90,000 | .5 | 45,000 | 8,000,000 | 5 | 666,666 | 711,666
Credit and charge card accounts | 50,000 | .5 | 25,000 | 25,000,000 | .25 | 104,166 | 129,166
Home equity lines of credit | 7,500 | .5 | 3,750 | 3,500,000 | .25 | 14,583 | 18,333
Advertising | 200,000 | .5 | 100,000 | 600,000 | .5 | 5,000 | 105,000
Closed-end credit: |  |  |  |  |  |  |
Credit disclosures | 700,000 | .5 | 350,000 | 200,000,000 | 1.5 | 5,000,000 | 5,350,000
Rescission notices | 75,000 | .5 | 37,500 | 30,000,000 | 1 | 500,000 | 537,500
Variable rate mortgages | 70,000 | .5 | 35,000 | 2,000,000 | 1.5 | 50,000 | 85,000
High rate/high-fee mortgages | 40,000 | .5 | 20,000 | 500,000 | 1.5 | 12,500 | 32,500
Reverse mortgages | 50,000 | .5 | 25,000 | 175,000 | 1 | 2,917 | 27,917
Advertising² | 450,000 | .5 | 225,000 | 900,000 | 1 | 15,000 | 240,000
Total open-end credit |  |  |  |  |  |  | 5,142,496
Total closed-end credit |  |  |  |  |  |  | 6,272,917
Total credit |  |  |  |  |  |  | 11,415,413
¹ Generally, open-end and closed-end entities and transactions have decreased, but reverse mortgages have increased, relative to prior FTC estimates.
² Advertising time for setup for open-end and closed-end mortgage transactions is estimated to increase based on new rules effective October 1, 2009, but the number of transactions have decreased, relative to prior FTC estimates.

Estimated annual cost burden: $372,419,363, rounded to the nearest thousand ($17,400,000 recordkeeping cost + $355,019,363 disclosure cost)

FTC staff calculated labor costs by applying appropriate hourly cost figures to the burden hours described above. The hourly rates used below ($41 for managerial or professional time, $30 for skilled technical time, and $16 for clerical time) are averages, based on current Bureau of Labor Statistics cost figures.²

² See note 8.

Recordkeeping: For the 1,000,000 recordkeeping hours, FTC staff estimates that 10 percent of the burden hours require skilled technical time and 90 percent require clerical time. As shown in the table below, the total recordkeeping cost is $17,400,000.

Disclosure: For each notice or information item listed, FTC staff estimates that 10 percent of the burden hours require managerial time and 90 percent require skilled technical time. As shown in the table below, the total disclosure cost is $355,019,363.

Regulation Z: Recordkeeping and Disclosures—Cost
Required Task | Managerial: Time (hours) | Managerial: Cost ($41/hr.) | Skilled Technical: Time (hours) | Skilled Technical: Cost ($30/hr.) | Clerical: Time (hours) | Clerical: Cost ($16/hr.) | Total Cost ($)
Recordkeeping | 0 | $0 | 100,000 | $3,000,000 | 900,000 | $14,400,000 | $17,400,000
Open-end credit Disclosures: |  |  |  |  |  |  |
Initial terms | 21,167 | $867,847 | 190,499 | $5,714,970 | 0 | $0 | $6,582,817
Rescission notices | 542 | $22,222 | 4,874 | $146,220 | 0 | $0 | $168,442
Change in terms | 27,042 | $1,108,722 | 243,374 | $7,301,220 | 0 | $0 | $8,409,942
Periodic statements | 369,083 | $15,132,403 | 3,321,750 | $99,652,500 | 0 | $0 | $114,784,903
Error resolution | 71,167 | $2,917,847 | 640,499 | $19,214,970 | 0 | $0 | $22,132,817
Credit and charge card accounts | 12,917 | $529,597 | 116,249 | $3,487,470 | 0 | $0 | $4,017,067
Home equity lines of credit | 1,833 | $75,153 | 16,500 | $495,000 | 0 | $0 | $570,153
Advertising | 10,500 | $430,500 | 94,500 | $2,835,000 | 0 | $0 | $3,265,500
Total open-end credit |  |  |  |  |  |  | $159,931,641
Closed-end credit Disclosures: |  |  |  |  |  |  |
Credit disclosures | 535,000 | $21,935,000 | 4,815,000 | $144,450,000 | 0 | $0 | $166,385,000
Rescission notices | 53,750 | $2,203,750 | 483,750 | $14,512,500 | 0 | $0 | $16,716,250
Variable rate mortgages | 8,500 | $348,500 | 76,500 | $2,295,000 | 0 | $0 | $2,643,500
High-rate/high-fee mortgages | 3,250 | $133,250 | 29,250 | $877,500 | 0 | $0 | $1,010,750
Reverse mortgages | 2,792 | $114,472 | 25,125 | $753,750 | 0 | $0 | $868,222
Advertising | 24,000 | $984,000 | 216,000 | $6,480,000 | 0 | $0 | $7,464,000
Total closed-end credit |  |  |  |  |  |  | $195,087,722
Total Disclosures |  |  |  |  |  |  | $355,019,363
Total Recordkeeping and Disclosures |  |  |  |  |  |  | $372,419,363

David C. Shonka,
Acting General Counsel.

[FR Doc. E9-5113 Filed 3-10-09: 8:45 am]

BILLING CODE 6750-01-S